DEPARTMENT OF LABOR

Mine Safety and Health Administration

[OMB Control No. 1219-0054]

Proposed Extension of Information Collection: Underground Coal Mine Fire Protection

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Underground Coal Mine Fire Protection.

DATES: All comments must be received on or before July 28, 2025.

ADDRESSES: Comments concerning the information collection requirements of this notice may be sent by any of the methods listed below. Please note that comments received after the deadline will not be considered.

• Federal E-Rulemaking Portal: https://www.regulations.gov. Follow the on-line instructions for submitting comments for docket number MSHA-2025-0015.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information .collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor to develop, promulgate, and revise, as may be appropriate, improved mandatory health or safety standards for the protection of life and prevention of injuries in coal, metal and nonmetal mines.

The Paperwork Reduction Act governs paperwork burdens imposed by Federal agencies on the public for using identical questions to collect information from 10 or more persons. Paperwork burden is defined in 44 U.S.C. 3502(2) as time, effort, or financial resources expended to generate, maintain, or provide information to or for a Federal agency. Under 44 U.S.C. 3507, policies and procedures of information collection are established to control paperwork burdens imposed by Federal agencies on the public, including evaluating public comments.

B. Information Collection

To fulfill the statutory mandate of promoting miners' health and safety, MSHA requires information under the information collection request (ICR) titled “Underground Coal Mine Fire Protection.” The information collection is intended for MSHA to ensure mine operators keep proper records for the examination and testing of firefighting equipment, automatic fire sensor and warning device systems, fire hydrants and fire hoses, and fire suppression devices. It is also intended to ensure that mine operators certify the emergency response training for the designated responsible persons and maintain mine emergency evacuation and firefighting programs of instruction.

Burden and costs associated with this ICR include:

1. examining chemical extinguishers and recording dates;

2. updating maps or schematic with locations of sensors of automatic fire warning devices;

3. functional testing the warning signals and calibrating sensors in automatic fire sensor and warning device systems;

4. testing each fire hydrant and fire hose;

5. certifying mine emergency evacuation response training; and

6. submitting mine emergency evacuation and firefighting program of instruction for MSHA approval.

Below are described the relevant safety and information collection requirements.

1. Examining Chemical Extinguishers and Recording

Under 30 CFR 75.1100-3, all firefighting equipment must be maintained in a usable and operative condition. Chemical extinguishers must be examined every 6 months and the date of the examination must be written on a permanent tag attached to the extinguisher.

2. Updating Maps or Schematic With Locations of Sensors of Automatic Fire Warning Devices

Under 30 CFR 75.1103-5(a), when the carbon monoxide level reaches 10 parts per million above the established ambient level at any sensor location, automatic fire sensor and warning device systems must provide an effective warning signal at the following locations: (1) At working sections and other work locations where miners may be endangered from a fire in the belt entry; and (2) At a manned surface location where personnel have an assigned post of duty.

Under 30 CFR 75.1103-5(a)(2)(ii), the manned surface location must have a map or schematic that shows the locations of sensors and the intended air flow direction at the sensor locations. This map or schematic must be updated within 24 hours of any change in the content.

3. Functional Testing the Warning Signals and Calibrating Sensors in Automatic Fire Sensor and Warning Device Systems

Under 30 CFR 75.1103-8(a), automatic fire sensor and warning device systems must be examined at least once each shift, when belts are operated as part of a production shift. A functional test of the warning signals must be made at least once every seven days. Examination and maintenance of the systems must be done by a qualified person.

Under 30 CFR 75.1103-8(b), a record of the functional test must be maintained by the operator and kept for a period of one year.

Under 30 CFR 75.1103-8(c), sensors must be calibrated in accordance with the manufacturer's calibration instructions at intervals not to exceed 31 days. A record of the sensor calibrations must be maintained by the operator and kept for a period of one year.

4. Testing Fire Hydrants and Fire Hoses

Under 30 CFR 75.1103-11, each fire hydrant must be tested by opening to ensure that it is in operating condition, and each fire hose must be tested, at intervals not exceeding 1 year. A record of these tests must be maintained at an appropriate location.

5. Certifying Mine Emergency Response Training

Under 30 CFR 75.1501(a), for each shift that miners work underground, there must be in attendance a responsible person designated by the mine operator to take charge during mine emergencies involving a fire, explosion, or gas or water inundation.

Under 30 CFR 75.1501(a)(2), the responsible person must be trained annually in a course of instruction in mine emergency response, as prescribed by MSHA's Office of Educational Policy and Development. Further, under 75.1051(a)(3), the operator must certify by signature and date after each responsible person has completed the training and keep the certification at the mine for 1 year.

6. Submitting Mine Emergency Evacuation and Firefighting Program of Instruction for MSHA Approval

Under 30 CFR 75.1502, each operator of an underground coal mine must adopt and follow a mine emergency evacuation and firefighting program that instructs all miners in the proper procedures they must follow if a mine emergency occurs.

Under 30 CFR 75.1502(a), the operator must submit the program of instruction, and any revisions, for approval to the District Manager in which the mine is located. Within 30 days of approval, the operator must conduct training in accordance with the revised program.

Additionally, under 30 CFR 75.1502(b), before implementing any new or revised approved provision in the program of instruction, the operator must instruct miners regarding the change.

II. Desired Focus of Comments

MSHA is soliciting comments concerning the proposed information collection titled “Underground Coal Mine Fire Protection”. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the information collection requirements may be directed to the person listed in the FOR FURTHER INFORMATION CONTACT section of this notice.

III. Current Actions

This information collection request concerns provisions for Underground Coal Mine Fire Protection. MSHA has updated the data with respect to the number of respondents, responses, time burden, and burden costs supporting this information collection request from the previous information collection request.

Type of Review: Extension, without change, of a currently approved collection.

Agency: Mine Safety and Health Administration.

OMB Number: 1219-0054.

Affected Public: Business or other for-profit.

Number of Annual Respondents: 148.

Frequency: On occasion.

Number of Annual Responses: 143,039.

Annual Time Burden: 15,878 hours.

Annual Other Burden Costs: $63.

Comments submitted in response to this notice will be summarized and included in the request for Office of Management and Budget approval of the proposed information collection request; they will become a matter of public record and be available at https://www.reginfo.gov.

Song-ae Aromie Noe,
Certifying Officer, Mine Safety and Health Administration.

[FR Doc. 2025-09594 Filed 5-28-25; 8:45 am]

BILLING CODE 4510-43-P